DEPARTMENT OF HEALTH AND HUMAN SERVICES

Health Resources and Services Administration

Agency Information Collection Activities: Submission to OMB for Review and Approval; Public Comment Request; MCH Jurisdictional Survey Instrument for the Title V MCH Block Grant Program, OMB No. 0906-0042—Extension

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than April 4, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION: Information Collection Request Title: Maternal and Child Health (MCH) Jurisdictional Survey Instrument for the Title V MCH Block Grant Program, OMB No. 0906-0042—Extension.

Abstract: The purpose of the title V MCH Block Grant is to improve the health of the Nation's mothers, infants, children, including children with special health care needs, and their families by creating federal/state partnerships that provide each state/jurisdiction with needed flexibility to respond to its individual MCH population needs. Unique to the MCH Block Grant is a commitment to performance accountability, while assuring state flexibility. Utilizing a three-tiered national performance measure framework, which includes National Outcome Measures, National Performance Measures, and Evidence-Based and -Informed Strategy Measures, State Title V programs report annually on their performance relative to the selected national performance and outcome measures. Such reporting enables the state and federal program offices to assess the progress achieved in key MCH priority areas and to document Title V program accomplishments.

By legislation (section 505(a) and 506(a) of title V of the Social Security Act), the MCH Block Grant Application/Annual Report must be developed by, or in consultation with, state MCH health agencies. In establishing state reporting requirements, HRSA's Maternal and Child Health Bureau considers the availability of national data from other federal agencies. Data for the national performance and outcome measures are pre-populated for states in the title V Information System. National data sources identified for the National Performance Measures and National Outcome Measures in the MCH Block Grant program seldom include data from the Title V jurisdictions, with the exception of the District of Columbia. The eight remaining jurisdictions (i.e., American Samoa, Federated States of Micronesia, Guam, Marshall Islands, Northern Mariana Islands, Palau, Puerto Rico, and U.S. Virgin Islands) have limited access to significant data and MCH indicators, with limited capacity for collecting these data.

Sponsored by HRSA's Maternal and Child Health Bureau, the MCH Jurisdictional Survey is designed to produce data on the physical and emotional health of mothers and children under 18 years of age in the following eight jurisdictions—American Samoa, Federated States of Micronesia, Guam, Marshall Islands, Northern Mariana Islands, Palau, Puerto Rico, and Virgin Islands. More specifically, the MCH Jurisdictional Survey collects information on factors related to the well-being of children, including health status, visits to health care providers, health care costs, and health insurance coverage. In addition, the MCH Jurisdictional Survey collects information on factors related to the well-being of mothers, including health risk behaviors, health conditions, and preventive health practices. Collecting this data will enable the jurisdictions to meet federal performance reporting requirements and to demonstrate the impact of Title V funding relative to MCH outcomes for the U.S. jurisdictions in reporting on their unique MCH priority needs.

The MCH Jurisdictional Survey was designed based on information-gathering activities with Title V leadership and program staff in the jurisdictions, experts at the Centers for Disease Control and Prevention and other organizations with relevant data collection experience. Survey items are based on the National Survey of Children's Health; the Behavioral Risk Factor Surveillance System; the Youth Behavior Surveillance System; and selected other federal studies. The Survey is designed as a core questionnaire to be administered across all jurisdictions with a supplemental set of survey questions customized to the needs of each jurisdiction.

A 60-day notice was published in the Federal Register, 86 FR 50365 (September 8, 2021). There were no public comments.

Need and Proposed Use of the Information: Data from the MCH Jurisdictional Survey will be used to measure progress on national performance and outcome measures under the Title V MCH Block Grant Program. This survey instrument is critical in order to collect information on factors related to the well-being of all mothers, children, and their families in the jurisdictional Title V programs, and which address their unique MCH needs.

HRSA is asking to update the previously approved question and response options for, “What is this child's race?” The updated question would ask, “What is this child's race and ethnicity?” Updated response options would include an expanded list of races and ethnicities prevalent in the Pacific Basin (specifically: Tongan, Saipanese, Mortlockese, Kosraen, Carolinian, Palauan, Pohnpeian, Yapese, Chuukese, and Marshallese). These changes are based on feedback from the program staff in the Jurisdictions and interviewers who indicated that some respondents were unsure about how to answer since they did not identify with any of the races and ethnicities listed, as well as on review of the data from 2019-2022. Participants in the Pacific Basin often struggled to choose a response from the available list and would default to selecting “other Pacific Islander, please specify.” Furthermore, the lack of additional race and ethnicity detail made it difficult for Jurisdictional title V Programs to properly analyze data and apply results to title V programming. The additional response options represent the most frequent responses received from participants to the “other Pacific Islander, please specify” item. This question is asked one time for each child included in the screener (questions A6, A17, A28, and A39).

1. Is this child of Hispanic, Latino, or Spanish origin?

1. No, not of Hispanic, Latino, or Spanish origin

2. Yes, Mexican, Mexican American, Chicano

3. Yes, Puerto Rican

4. Yes, Cuban

5. Yes, another Hispanic, Latino, or Spanish origin.

Please specify

2. What is this child's race or ethnicity? Select one or more:

1. White

2. Black or African American

3. American Indian or Alaska Native

Please specify

4. Asian Indian

5. Chinese

6. Filipino

7. Japanese

8. Korean

9. Vietnamese

10. Other Asian

Please specify

11. Native Hawaiian

12. Guamanian or Chamorro

13. Samoan

14. Tongan

15. Saipanese

16. Mortlockese

17. Kosraen

18. Carolinian

19. Palauan

20. Pohnpeian

21. Yapese

22. Chuukese

23. Marshallese

24. Other Pacific Islander

Please specify

Likely Respondents: The respondent universe is women age 18 or older who live in one of the eight targeted U.S. jurisdictions (Puerto Rico, U.S. Virgin Islands, Guam, Northern Mariana Islands, American Samoa, Palau, Marshall Islands, or Federated States of Micronesia) and who are mothers or guardians of at least one child aged 0-17 years living in the same household.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information.

The total annual burden hours estimated for this ICR are summarized in the table below.

Type of respondent | Form name | Number of respondents | Number of responses per respondent | Total responses | Average burden per response (in hours) | Burden hours per form | Total burden hours
Adult Parents—Puerto Rico | Screener | 2,480 | 1 | 2,480 | 0.03 | 74.40 | 299.40
| Core | 250 | 1 | 250 | 0.83 | 207.50 |
| Jurisdiction Module | 250 | 1 | 250 | 0.07 | 17.50 |
Adult Parents—U.S. Virgin Islands | Screener | 2,153 | 1 | 2,153 | 0.03 | 64.59 | 289.59
| Core | 250 | 1 | 250 | 0.83 | 207.50 |
| Jurisdiction Module | 250 | 1 | 250 | 0.07 | 17.50 |
Adult Parents—Guam | Screener | 684 | 1 | 684 | 0.03 | 20.52 | 245.52
| Core | 250 | 1 | 250 | 0.83 | 207.50 |
| Jurisdiction Module | 250 | 1 | 250 | 0.07 | 17.50 |
Adult Parents—American Samoa | Screener | 426 | 1 | 426 | 0.03 | 12.78 | 232.78
| Core | 250 | 1 | 250 | 0.83 | 207.50 |
| Jurisdiction Module | 250 | 1 | 250 | 0.05 | 12.50 |
Adult Parents—Federated States of Micronesia | Screener | 339 | 1 | 339 | 0.03 | 10.17 | 230.17
| Core | 250 | 1 | 250 | 0.83 | 207.50 |
| Jurisdiction Module | 250 | 1 | 250 | 0.05 | 12.50 |
Adult Parents—Marshall Islands | Screener | 284 | 1 | 284 | 0.03 | 8.52 | 236.02
| Core | 250 | 1 | 250 | 0.83 | 207.50 |
| Jurisdiction Module | 250 | 1 | 250 | 0.08 | 20.00 |
Adult Parents—Northern Mariana Islands | Screener | 470 | 1 | 470 | 0.03 | 14.10 | 241.60
| Core | 250 | 1 | 250 | 0.83 | 207.50 |
| Jurisdiction Module | 250 | 1 | 250 | 0.08 | 20.00 |
Adult Parents—Palau | Screener | 467 | 1 | 467 | 0.03 | 14.01 | 226.51
| Core | 250 | 1 | 250 | 0.83 | 207.50 |
| Jurisdiction Module | 250 | 1 | 250 | 0.02 | 5.00 |
Total |  | 7,303 |  | 7,303 |  |  | 2,001.59

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-04413 Filed 3-2-22; 8:45 am]

BILLING CODE 4165-15-P